SOCIAL SECURITY ADMINISTRATION

20 CFR Part 404 and 422

[Regulations No. 4 and 22]

RIN 0960-AF52

Filing of Applications and Related Forms

AGENCY: Social Security Administration (SSA).

ACTION: Final rule.

SUMMARY: These final regulations revise our rules relating to the filing of an application for Social Security benefits. They inform the public of the option of filing Internet applications on our Web site for several types of Social Security benefits. These changes explain that we will accept Internet applications completed on our Web site as prescribed applications for filing for Social Security benefits. We have added cross-references to several sections to describe what makes an application a claim for benefits; and we updated the list of related forms with other forms that are currently used in the application process.

EFFECTIVE DATE: These rules are effective on February 5, 2004.

FOR FURTHER INFORMATION CONTACT: Martin Sussman, Regulations Officer, Office of Regulations, Social Security Administration, 100 Altmeyer Building, 6401 Security Boulevard, Baltimore, MD 21235-6401, (410) 965-1767 or TTY (410) 966-5609. For information on eligibility or filing for benefits: Call our national toll-free number 1-800-722-1213, or TTY 1-800-325-0778 or visit our Internet Web site, Social Security Online at http://www.socialsecurity.gov.

Electronic Version

The electronic file of this document is available on the date of publication in the Federal Register at http://www.gpoaccess.gov/fr/index.html. It is also available on the Internet site for SSA (i.e., Social Security Online): http://www.ssa.gov/regulations.

SUPPLEMENTARY INFORMATION:

Background

An individual must file an application in order to receive benefits under title II of the Social Security Act (the Act). In part 404 of our regulations, we have established rules for filing a claim for old-age, disability, dependents', and survivors' insurance benefits, which define the criteria for determining when an application is a claim for benefits. Similarly, we include the names of places where an application may be filed, and explain what makes an application form acceptable as a claim for benefits. Our rules state that individuals must either sign the application or have someone who can act on their behalf sign for them. Except in limited situations, individuals must be alive at the time the application is filed.

In part 404, we further state that a claim filed with the Railroad Retirement Board on one of its forms for an annuity is an application for title II benefits, unless the individual states otherwise. We state that a claim filed with the Department of Veterans Affairs on one of its forms for survivors' dependency and indemnity compensation is also an application for Social Security dependents’ and survivors’ benefits (except for the lump sum death payment).

The types of applications currently prescribed by SSA are described in part 422 of our regulations. SSA's application process has evolved from its primary use of the traditional pre-printed application form for claims-taking to SSA employees who input information provided by the applicant into a computer terminal for processing. Computer printouts of the data are generated for the applicant to review the information and to sign the application.

We are committed to providing the public with the option to conduct business electronically by adding more Internet services on SSA's Web site, Social Security Online http://www.socialsecurity.gov/.

Toward this objective, we developed an Internet Retirement Insurance Benefit application for national implementation in the fall of 2000. Since then, we have expanded Internet applications to encompass spouses’ and disability insurance benefits. Statistics confirm that Internet usage has increased among older Americans, and as a result they have requested that more online services be made available to them. Internet applications for other benefits categories will be available in the future. As applications become available on our Web site, an explanation of our approved signature method for the application will be incorporated as part of the Internet application process. In the interim, individuals who use the Internet application process must physically sign the printed application and submit it to us.

The main purpose for these revisions is to inform the public of the option of filing an Internet application on our Web site for several types of Social Security benefits. These revisions include updating the list of related forms in section 422.505(b) to reflect only those forms that are currently in use in the application process. These revisions add cross-references to related sections to ensure that all necessary information for filing an application is available to the public. Finally, the revisions make the regulations more readable, thus enabling the public to better understand the contents of the sections.

The following is a summary of the revisions and our reasons for the changes.

Explanation of Revisions

We have changed the language in section 404.610 for clarity. We added a cross-reference in section 404.610(a) to related section 422.505(a), which explains the types of prescribed applications to be used by the public when filing for Social Security benefits. In section 404.611, we changed the heading as part of reformatting the section. In addition we added a cross-reference in section 404.611(a) to related section 422.505(a), which, as noted above, explains the types of prescribed applications. We also revised the caption in section 404.611(b) as part of the new format and revised the text to make the section clearer. Similarly, in section 404.611(c) we changed the caption and the text as part of the format change. We changed the heading in section 422.505 and the language in section 422.505(a) to make the contents of the section clearer. We also have changed section 422.505(a) to include language to state that Internet applications on SSA's Web site are prescribed applications. In section 422.505(b) we changed the list of related forms to delete the forms that are obsolete and to add forms that are currently in use. We also updated the titles of several forms.

Public Comments

We published a Notice of Proposed Rulemaking (NPRM) on August 17, 2001 (66 FR 43136), and provided a 60-day comment period on the NPRM. The only comment concerned the subject of electronic filing. The comment stated that “it was about time.” This comment was supportive of our proposed changes. Accordingly, we are publishing these changes as indicated in the NPRM except we:

• Clarified in § 422.505(a) that an applicant must sign a hard paper copy.

• Added SSA-783 to § 422.505(b). This form was inadvertently omitted from the NPRM.

• Deleted SSA-1323 from § 422.505(b). This form has been obsoleted.

• Made minor editorial changes.

Regulatory Procedures

Executive Order 12866, as Amended by Executive Order 13258

We have consulted with the Office of Management and Budget (OMB) and determined that these final rules do not meet the criteria for a significant regulatory action under E.O. 12866, as amended by E.O. 13258. Thus, they were not subject to OMB review.

Regulatory Flexibility Act

We certify that these final rules will not have a significant economic impact on a substantial number of small entities because they affect only individuals. Thus, a regulatory flexibility analysis as provided in the Regulatory Flexibility Act, as amended, is not required.

Paperwork Reduction Act

These final rules contain reporting requirements in sections 404.610, 404.611, and 422.505. The public reporting burden is accounted in the Information Collection Request for the various forms that the public uses to submit the information to us. Consequently, a 1-hour placeholder burden is being assigned to the specific reporting requirements contained in these rules. We are seeking clearance of the burdens referenced in these rules because they were not considered during publication; these burdens will not be effective until cleared by the OMB. We are soliciting comments on the burden estimate; the need for the information; its practical utility; ways to enhance its quality, utility, and clarity; and ways to minimize the burden on respondents, including the use of automated collection techniques or other forms of information technology. We will publish a notice in the Federal Register upon OMB approval of the information collection requirement(s). Comments should be submitted to the OMB desk officer for SSA within 30 days of publication of these final rules at the following address: Office of Management and Budget, Attn: Desk Officer for SSA, New Executive Office Building, Room 10235, 725 17th Street, NW., Washington, DC 20503. Fax No. (202) 395-6974.

(Catalog of Federal Domestic Assistance Program Nos. 96.001 Social Security-Disability Insurance: 96.002 Social Security-Retirement Insurance; and 96.004 Social Security-Survivors Insurance)

List of Subjects

20 CFR Part 404

Administrative practice and procedure, Blind, Disability benefits, Old-age, Survivors and disability insurance, Reporting and recordkeeping requirements, Social Security.

20 CFR Part 422

Administrative practice and procedure, Freedom of Information, Organization and functions (government agencies), Social Security.

Dated: December 29, 2003.
Jo Anne B. Barnhart,
Commissioner of Social Security.

For the reason set forth in the preamble, we are amending subpart G of part 404 and subpart F of part 422, in chapter III of title 20 of the Code of Federal Regulations, as set forth below.

PART 404—FEDERAL OLD-AGE, SURVIVORS AND DISABILITY INSURANCE (1950- )

Subpart G—[Amended]

1. The authority citation for subpart G of part 404 continues to read as follows:

Authority: Secs. 202(i), (j), (o), (p), and (r), 205(a), 216(i)(2), 223(b), 228(a), and 702(a)(5) of the Social Security Act (42 U.S.C., 402(i), (j), (o), (p), and (r), 405(a), 416(i)(2), 423(b), 428(a), and 902(a)(5)).

2. Section 404.610 is revised to read as follows:

§ 404.610 What makes an application a claim for benefits?

We will consider your application a claim for benefits if it generally meets all of the following conditions:

(a) You must file on a prescribed form, as stated in § 404.611. See § 422.505(a) of this chapter for the types of prescribed applications you can file.

(b) You must complete and file the application with us as stated in § 404.611 and § 404.614.

(c) You, or someone described in § 404.612 who may sign an application for you, must sign the application.

(d) You must be alive at the time you file (unless one of the limited exceptions in § 404.615 applies).

3. Section § 404.611 is revised to read as follows:

§ 404.611 How do I file an application for Social Security benefits?

(a) General rule. You must apply for benefits on an application that we prescribe. See § 422.505(a) of this chapter for the types of applications we will accept. See § 404.614 for places where you can file your application for benefits.

(b) What if I file a claim with the Railroad Retirement Board (RRB)? If you file an application with the RRB on one of its forms for an annuity under section 2 of the Railroad Retirement Act, as amended, we will consider this an application for title II Social Security benefits, which you may be entitled to, unless you tell us otherwise.

(c) What if I file a claim with the Department of Veterans Affairs (DVA)? If you file an application with the DVA on one of its forms for survivors' dependency and indemnity compensation (see section 3005 of title 38 U.S.C.), we will consider this an application for Social Security survivors' benefits, except for the lump sum death payment.

PART 422—ORGANIZATION AND PROCEDURES

Subpart F—[Amended]

4. The authority citation for subpart F of part 422 continues to read as follows:

Authority: Secs. 205 and 702(a)(5) of the Social Security Act (42 U.S.C. 405 and 902(a)(5)). Section 422.512 is also issued under 30 U.S.C. 901 et seq.

5. Section 422.505 is revised to read as follows:

§ 422.505 What types of applications and related forms are used to apply for retirement, survivors, and disability insurance benefits?

(a) Applications. Prescribed applications include our traditional pre-printed forms, and applications our employees complete on computer screens based on information you give us. We then print a copy on paper, have you sign it and process the signed application electronically. You may also use SSA's Internet website to submit an SSA-approved application to us. You can complete an Internet application on a computer (or other suitable device, such as an electronic kiosk) and electronically transmit the form to us using an SSA-approved electronic signature. If, however, we do not have an approved electronic signature established when you file your Internet application, you must print and sign the completed application and deliver the form to us.

(b) Related forms. The following are some related forms:

SSA-3—Marriage Certification. (For use in connection with Application for Wife's or Husband's Insurance Benefits, (Form SSA-2))

SSA-11—Request to be Selected as Payee. (For use when an individual proposing to be substituted for the current payee files an application to receive payment of benefits on behalf of disabled child, or a child under 18, or an incapable or incompetent beneficiary or for himself/herself if he/she has a payee.)

SSA-21—Supplement to Claim of Person Outside of the United States. (To be completed by or on behalf of a person who is, was, or will be outside the United States.)

SSA-25—Certificate of Election for Reduced Spouse's Benefits. (For use by a wife or husband age 62 to full retirement age who has an entitled child in his or her care and elects to receive reduced benefits for months during which he or she will not have a child in his or her care.)

SSA-721—Statement of Death by Funeral Director. (This form may be used as evidence of death (see § 404.704 of this chapter).)

SSA-760—Certificate of Support (Parent's, Husband's or Widower's). (For use in collecting evidence of support.)

SSA-766—Statement of Self-Employment Income. (For use by a claimant to establish insured status based on self-employment income in the current year.)

SSA-783—Statement Regarding Contributions. (This form may be used as evidence of total contributions for a child.)

SSA-787—Physician's/Medical Officer's Statement of Patient's Capability to Manage Benefits. (This form may be used to request evidence of capability from various medical sources.)

SSA-824—Report on Individual with Mental Impairment. (For use in obtaining medical evidence from medical sources when the claimant has been treated for a mental impairment.)

SSA-827—Authorization for Source to Release Information to the Social Security Administration. (To be completed by a disability claimant to authorize release of medical or other information.)

SSA-1002—Statement of Agricultural Employer (Years Prior to 1988). (For use by employer to provide evidence of annual wage payments for agricultural work.)

SSA-1372—Student's Statement Regarding School Attendance. (For use in connection with request for payment of child's insurance benefits for a child who is age 18 through 19 and a full-time student.

SSA-1388—Report of Student Beneficiary at End of School Year. (For use in confirming continuing eligibility to benefits or indicating the need for suspension or termination action.)

SSA-1724—Claim for Amount Due in the Case of a Deceased Beneficiary. (For use in requesting amounts payable under title II to a deceased beneficiary.)

SSA-3368—Disability Report—Adult. (For use in recording information about the claimant's condition, source of medical evidence and other information needed to process the claim to a determination or decision.)

SSA-3369—Disability Report—Work History. (For use in recording work history information.)

SSA-3826-F4—Medical Report—General. (For use in helping disability claimants in obtaining medical records from their doctors or other medical sources.)

SSA-3827—Medical Report—(Individual with Childhood Impairment). (For use in requesting information to determine if an individual's impairment meets the requirements for payment of childhood disability benefits.)

SSA-4111—Certificate of Election for Reduced Widow(er)s Benefits. (For use by applicants for certain reduced widow's or widower's benefits.)

SSA-7156—Farm Self-Employment Questionnaire. (For use in connection with claims for benefits based on farm income to determine whether the income is covered under the Social Security Act.)

SSA-7160—Employment Relationship Questionnaire. (For use by an individual and the alleged employer to determine the individual's employment status.)

SSA-7163—Questionnaire about Employment or Self-Employment Outside the United States.

(To be completed by or on behalf of a beneficiary who is, was, or will be employed or self-employed outside the United States.)

[FR Doc. 04-188 Filed 1-5-04; 8:45 am]

BILLING CODE 4191-02-P